DEPARTMENT OF THE INTERIOR

National Park Service

National Register of Historic Places;Notification of Pending Nominations and Related Actions

Nominations for the following properties being considered for listing or related actions in the National Register were received by the National Park Service before August 23, 2008.

Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by September 23, 2008.

J. Paul Loether,
Chief, National Register of Historic Places/National Historic Landmarks Program.

ALABAMA

Montgomery County

Frazier Hill, 6716 Old Selma Rd., Antioch, 08000951

ARKANSAS

Drew County

Ridgeway Hotel Historic District, 200-206 East Gaines St., Monticello, 08000952

Hempstead County

Southwestern Proving Ground Building #129, (World War II Home Front Efforts in Arkansas) 195 Hempstead Co. Rd. 279, Hope, 08000953

Jackson County

Erwin Auxiliary Army Airfield (World War II Home Front Efforts in Arkansas), NE. of AR 14 and Jackson Rd. 917 jct., Newport, 08000954

Sebastian County

Greenwood Presbyterian Church, 103 W. Denver St., Greenwood, 08000955

DISTRICT OF COLUMBIA

District of Columbia

Slayton, William L., House, 3411 Ordway St., NW., Washington DC, 08000956

FLORIDA

St. Johns County

Fort Matanzas NM Headquarters and Visitor Center (Florida's New Deal Resources MPS), 8635 A1A S., St.Augustine, 08000957

ILLINOIS

Cook County

Cicero Fire House No. 2, 129 Lake St., Oak Park, 08000959

Sauganash Historic District, Bounded on the W. by the former alley to the W. of Kilpatrick Ave., Hiawatha Ave., and Keating Ave., Chicago, 08000958

MISSOURI

Jackson County

Aines Farm Dairy Building, 3110-30 Gillham Rd., Kansas City, 08000960

TEXAS

Hall County

Hall County Courthouse, 512 W. Main, Memphis, 08000961

Hidalgo County

M and J Nelson Building, 300-308 S. 14th St., McAllen, 08000962

WISCONSIN

Richland County

Shadewald II Mound Group, (Late Woodland Stage in Archeological Region 8 MPS) Address Restricted, Town of Eagle, 08000963

[FR Doc. E8-20680 Filed 9-5-08; 8:45 am]

BILLING CODE 4310-70-P